DEPARTMENT OF TRANSPORTATION

Federal Aviation Administration

14 CFR Part 47

[Docket No. FAA-2008-0188; Amdt. No. 47-29A]

RIN 2120-AI89

Re-Registration and Renewal of Aircraft Registration; OMB Approval of Information Collection; Correction

AGENCY: Federal Aviation Administration (FAA), DOT.

ACTION: Final rule; approval of information collection; correction.

SUMMARY: The FAA is correcting the notification of the Office of Management and Budget (OMB) approval of information collection requirements contained in the “Re-Registration and Renewal of Aircraft Registration” final rule. The final rule was published on July 20, 2010. The notification of OMB approval of information collection was published on August 30, 2010. This document corrects the OMB approval expiration date referenced in the August 30, 2010, notification.

DATES: The final rule, including the information collection requirements in part 47, published July 20, 2010, at 75 FR 41968, and August 20, 2010, at 75 FR 52859, will become effective on October 1, 2010. The FAA received OMB approval for the information collection requirements on August 16, 2010.

FOR FURTHER INFORMATION CONTACT: John G. Bent, Civil Aviation Registry, Mike Monroney Aeronautical Center, 6500 South MacArthur Boulevard, Oklahoma City, OK 73169; telephone: (405) 954-4331.

SUPPLEMENTARY INFORMATION:

Background

On July 20, 2010, the FAA published the final rule “Re-Registration and Renewal of Aircraft Registration” (75 FR 41968).

The final rule contained information collection requirements in part 47 that had not yet been approved by OMB at the time of publication. In accordance with the Paperwork Reduction Act, the FAA submitted a copy of the new information collection requirements to OMB for its review. OMB approved the collection on August 16, 2010, and assigned the information collection OMB Control Number 2120-0729, which expires on February 29, 2012. In the notification of OMB approval document that was published on August 30, 2010, the FAA incorrectly stated that the expiration date was February 29, 2010. The FAA also incorrectly referenced docket number FAA-2008-0118 instead of docket number FAA-2008-0188. The FAA also inadvertently included references to parts 13 and 91 in the heading of the document; however, parts 13 and 91 did not contain information collection requirements.

In final rule FR Doc. 2010-21561 published on August 30, 2010 (75 FR 52859), make the following corrections:

Corrections to Preamble

1. On page 52859, in the second column, in the third line of the heading, remove “14 CFR Parts 13, 47, and 91” and add in its place “14 CFR Part 47.”

2. On page 52859, in the second column, in the fourth line of the heading, remove “FAA-2008-0118” and add in its place “FAA-2008-0188.”

3. On page 52859, in the second column, in the fifth line of the heading, remove “13-34, 47-29, and 91-318” and add in its place “47-29.”

4. On page 52859, in the third column, in the second paragraph under SUPPLEMENTARY INFORMATION, in the twelfth line, remove “February 29, 2010” and add in its place “February 29, 2012.”

Issued in Washington, DC, on September 20, 2010.
Dennis R. Pratte, II,
Acting Director, Office of Rulemaking.

[FR Doc. 2010-23964 Filed 9-23-10; 8:45 am]

BILLING CODE 4910-13-P